SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before January 23, 2018.

ADDRESSES: Send all comments to Dolores Rowen, Associate Director, Office of Policy and Research, National Women's Business Council Small Business Administration, 409 3rd Street, 5th Floor, Washington, DC 20416.

FOR FURTHER INFORMATION CONTACT: Dolores Rowen, Associate Director, Office of Policy and Research, National Women's Business Council Small Business Administration, Dolores.rowen@sba.gov 202-205-9974, or Curtis B. Rich, Management Analyst, 202-205-7030, curtis.rich@sba.gov.

SUPPLEMENTARY INFORMATION: The National Women's Business Council will examine women's participation in business incubation and acceleration programs to understand the characteristics of incubators and accelerators that affect the business outcomes of women business owners. NWBC will also gain insights into factors that affect women's participation in these programs. Respondents will be managers of incubators and accelerators, women business owners who graduated from the programs, and a sample of women business owners from the general population.

Summary of Information Collection

Title: Women's Participation in Incubators and Acceleration.

Description of Respondents: Managers of incubators and accelerators, women business owners who graduated from the programs, and a sample of women business owners from the general population.

Form Number: N/A.

Total Estimated Annual Responses: 500.

Total Estimated Annual Hour Burden: 123.

Curtis B. Rich,
Management Analyst.

[FR Doc. 2017-25387 Filed 11-22-17; 8:45 am]

BILLING CODE 8025-01-P